DEPARTMENT OF COMMERCE

National Oceanic and Atmospheric Administration

Proposed Information Collection; Comment Request; Alaska Region Amendment 80 Permits and Reports

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 10, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Patsy A. Bearden, at (907) 586-7008 or patsy.bearden@noaa.gov.

SUPPLEMENTARY INFORMATION:

I. Abstract

Amendment 80 to the Fishery Management Plan for Groundfish of the Bering Sea and Aleutian Islands Management Area (BSAI FMP), primarily allocates BSAI non-pollock trawl groundfish fisheries among fishing sectors and facilitates the formation of harvesting cooperatives in the head-and-gut trawl catcher/processor sector. Sector allocations and associated cooperatives allow participants to focus less on harvest rate maximization and more on optimizing their harvest. This, in turn, allows a reduction in unwanted incidental catch, improved retention, improved utilization, and improved economic health of the head-and-gut trawl catcher/processor sector. Amendment 80 established a limited access privilege program for the non-American Fisheries Act (non-AFA) trawl catcher/processor sector.

The Amendment 80 permits and reports collection provides participants with a management system that allows for improved efficiency by providing an environment in which, revenues can be increased and operating costs can be reduced. Depending on the magnitude of these potential efficiency gains and the costs of bycatch reduction, increases in efficiency could be used to cover the costs of bycatch reduction measures or provide additional benefits to participants.

Licenses and vessels used to qualify for the Amendment 80 Program (either to be included in the non-AFA trawl catcher/processor sector or to be used in Amendment 80 cooperative formation) are restricted from being used outside of the Amendment 80 sector, except that any eligible vessel authorized to fish pollock under the AFA would still be authorized to fish under this statute.

The fishery participants that join a cooperative receive an exclusive harvest privilege not subject to harvest by other vessel operators; may consolidate fishing operations on a specific vessel or subset of vessels, thereby reducing monitoring and enforcement and other operational costs; and harvest fish in a more economically efficient and less wasteful manner.

II. Method of Collection

Respondents have a choice of either electronic or paper forms. Methods of submittal include e-mail of electronic forms, and mail and facsimile transmission of paper forms.

III. Data

OMB Control Number: 0648-0565.

Form Number: None.

Type of Review: Regular submission.

Affected Public: Business or other for-profit organizations; Individuals or households.

Estimated Number of Respondents: 44.

Estimated Time per Response: Application for Amendment 80 cooperative and cooperative quota permit, application for Amendment 80 quota share, application for Amendment 80 limited access fishery, application to transfer Amendment 80 quota share and application to transfer Amendment 80 cooperative quota, 2 hours; Amendment 80 cooperative catch report, 30 minutes; annual Amendment 80 cooperative report and appeals, 4 hours.

Estimated Total Annual Burden Hours: 896.

Estimated Total Annual Cost to Public: $2,732 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 4, 2010.
Gwellnar Banks,
Management Analyst, Office of the Chief Information Officer.

[FR Doc. 2010-4951 Filed 3-8-10; 8:45 am]

BILLING CODE 3510-22-P